DEPARTMENT OF AGRICULTURE

Agricultural Marketing Service

7 CFR Part 905

[Doc. No. AMS-FV-12-0045; FV12-905-1 FR]

Oranges, Grapefruit, Tangerines, and Tangelos Grown in Florida; Increased Assessment Rate

AGENCY: Agricultural Marketing Service, USDA.

ACTION: Final rule.

SUMMARY: This rule increases the assessment rate established for the Citrus Administrative Committee (Committee) for the 2012-13 and subsequent fiscal periods from $0.0072 to $0.008 per ⅘ bushel carton of citrus handled. The Committee locally administers the marketing order that regulates the handling of oranges, grapefruit, tangerines, and tangelos grown in Florida. Assessments upon citrus handlers are used by the Committee to fund reasonable and necessary expenses of the program. The fiscal period begins August 1 and ends July 31. The assessment rate will remain in effect indefinitely unless modified, suspended, or terminated.

DATES: Effective Date: April 26, 2013.

FOR FURTHER INFORMATION CONTACT: Corey E. Elliott, Marketing Specialist, or Christian D. Nissen, Regional Director, Southeast Marketing Field Office, Marketing Order and Agreement Division, Fruit and Vegetable Program, AMS, USDA; Telephone: (863) 324-3375, Fax: (863) 325-8793, or Email: Corey.Elliott@ams.usda.gov or Christian.Nissen@ams.usda.gov.

Small businesses may request information on complying with this regulation by contacting Jeffrey Smutny, Marketing Order and Agreement Division, Fruit and Vegetable Program, AMS, USDA, 1400 Independence Avenue SW., STOP 0237, Washington, DC 20250-0237; Telephone: (202) 720-2491, Fax: (202) 720-8938, or Email: Jeffrey.Smutny@ams.usda.gov.

SUPPLEMENTARY INFORMATION: This rule is issued under Marketing Order No. 905, as amended (7 CFR part 905), regulating the handling of oranges, grapefruit, tangerines, and tangelos grown in Florida, hereinafter referred to as the “order.” The order is effective under the Agricultural Marketing Agreement Act of 1937, as amended (7 U.S.C. 601-674), hereinafter referred to as the “Act.”

The Department of Agriculture (USDA) is issuing this rule in conformance with Executive Order 12866.

This rule has been reviewed under Executive Order 12988, Civil Justice Reform. Under the marketing order now in effect, Florida citrus handlers are subject to assessments. Funds to administer the order are derived from such assessments. It is intended that the assessment rate as issued herein will be applicable to all assessable citrus beginning on August 1, 2012, and continue until amended, suspended, or terminated.

The Act provides that administrative proceedings must be exhausted before parties may file suit in court. Under section 608c(15)(A) of the Act, any handler subject to an order may file with USDA a petition stating that the order, any provision of the order, or any obligation imposed in connection with the order is not in accordance with law and request a modification of the order or to be exempted therefrom. Such handler is afforded the opportunity for a hearing on the petition. After the hearing, USDA would rule on the petition. The Act provides that the district court of the United States in any district in which the handler is an inhabitant, or has his or her principal place of business, has jurisdiction to review USDA's ruling on the petition, provided an action is filed not later than 20 days after the date of the entry of the ruling.

This rule increases the assessment rate established for the Committee for the 2012-13 and subsequent fiscal periods from $0.0072 to $0.008 per ⅘ bushel carton of citrus.

The Florida citrus marketing order provides authority for the Committee, with the approval of USDA, to formulate an annual budget of expenses and collect assessments from handlers to administer the program. The members of the Committee are producers and handlers of Florida citrus. They are familiar with the Committee's needs and with the costs for goods and services in their local area. Thus, they are in a position to formulate an appropriate budget and assessment rate. The assessment rate is formulated and discussed in a public meeting. Thus, all directly affected persons have an opportunity to participate and provide input.

For the 2007-08 and subsequent fiscal periods, the Committee recommended, and USDA approved, an assessment rate that would continue in effect from fiscal period to fiscal period unless modified, suspended, or terminated by USDA based upon a recommendation and information submitted by the Committee or other information available to USDA.

The Committee met on July 17, 2012, and unanimously recommended 2012-13 expenditures of $223,500 and an assessment rate of $0.008 per ⅘ bushel carton of citrus. In comparison, last year's budgeted expenditures were also $223,500. The assessment rate of $0.008 is $0.0008 higher than the rate currently in effect.

The Committee estimates 2012-2013 production to be approximately 27.3 million ⅘ bushel cartons, down from the 29.5 million ⅘ bushel cartons estimated for last year. At the current assessment rate, assessment income would equal only $196,560, an amount insufficient to cover the Committee's anticipated expenditures. The assessment rate increase will generate additional revenue and will help offset the amount of reserves needed to fund the budget. Therefore, the Committee recommended increasing the assessment rate.

The major expenditures recommended by the Committee for the 2012-13 year include $116,200 for salaries, $25,000 for Florida Department of Agriculture and Consumer Services (FDACS) manifesting, and $18,250 for a retirement plan. Budgeted expenses for these items in 2011-12 were the same as recommended for 2012-13 budgeted expenditures, respectively.

The assessment rate recommended by the Committee was derived by reviewing anticipated expenses, expected shipments of Florida citrus, interest income, and available reserves. Citrus shipments for the year are estimated at 27.3 million ⅘ bushel cartons which should provide $218,400 in assessment income. Income derived from handler assessments, along with interest income and funds from the Committee's authorized reserve should be adequate to cover budgeted expenses. Funds in the reserve (approximately $34,000) will be kept within the maximum permitted by the order, not to exceed one half of one fiscal period's expenses as stated in § 905.42.

The assessment rate established in this rule will continue in effect indefinitely unless modified, suspended, or terminated by USDA based upon a recommendation and information submitted by the Committee or other available information.

Although this assessment rate will be in effect for an indefinite period, the Committee will continue to meet prior to or during each fiscal period to recommend a budget of expenses and consider recommendations for modification of the assessment rate. The dates and times of Committee meetings are available from the Committee or USDA. Committee meetings are open to the public and interested persons may express their views at these meetings. USDA will evaluate Committee recommendations and other available information to determine whether modification of the assessment rate is needed. Further rulemaking will be undertaken as necessary. The Committee's 2012-13 budget and those for subsequent fiscal periods would be reviewed and, as appropriate, approved by USDA.

Final Regulatory Flexibility Analysis

Pursuant to requirements set forth in the Regulatory Flexibility Act (RFA) (5 U.S.C. 601-612), the Agricultural Marketing Service (AMS) has considered the economic impact of this rule on small entities. Accordingly, AMS has prepared this final regulatory flexibility analysis.

The purpose of the RFA is to fit regulatory actions to the scale of business subject to such actions in order that small businesses will not be unduly or disproportionately burdened. Marketing orders issued pursuant to the Act, and the rules issued thereunder, are unique in that they are brought about through group action of essentially small entities acting on their own behalf.

There are approximately 45 handlers subject to regulation under the marketing order and approximately 8,000 producers of citrus in the production area. Small agricultural service firms are defined by the Small Business Administration (SBA) as those whose annual receipts are less than $7,000,000, and small agricultural producers are defined as those having annual receipts less than $750,000 (13 CFR 121.201).

Based on industry and Committee data, the average annual f.o.b. price for fresh Florida citrus during the 2010-11 season was approximately $12.16 per ⅘ bushel carton, and total fresh shipments were approximately 30.4 million cartons. Using the average f.o.b. price and shipment data, about 55 percent of the Florida citrus handlers could be considered small businesses under SBA's definition. In addition, based on production data, grower prices as reported by the National Agricultural Statistics Service, and the total number of Florida citrus growers, the average annual grower revenue is below $750,000. Thus, assuming a normal distribution, the majority of handlers and producers of Florida citrus may be classified as small entities.

This rule increases the assessment rate established for the Committee and collected from handlers for the 2012-13 and subsequent fiscal periods from $0.0072 to $0.008 per ⅘ bushel carton of citrus. The Committee unanimously recommended 2012-13 expenditures of $223,500 and an assessment rate of $0.008 per ⅘ bushel carton of citrus. The assessment rate of $0.008 is $0.0008 higher than the 2011-12 rate. The quantity of assessable citrus for the 2012-13 season is estimated at 27.3 million cartons. Thus, the $0.008 rate should provide $218,400 in assessment income. Income derived from handler assessments, along with interest income and funds from the Committee's authorized reserve fund should be adequate to meet this year's anticipated expenses.

The major expenditures recommended by the Committee for the 2012-13 year include $116,200 for salaries, $25,000 for Florida Department of Agriculture and Consumer Services (FDACS) manifesting, and $18,250 for a retirement plan. Budgeted expenses for these items in 2011-12 were the same as recommended for 2012-13 budgeted expenditures, respectively.

As previously stated, the Committee estimates the 2012-2013 production to be approximately 27.3 million ⅘ bushel cartons, down from the 29.5 million ⅘ bushel cartons estimated for last year. At the current assessment rate, assessment income would equal only $196,560, an amount insufficient to cover the Committee's anticipated expenditures. The assessment rate increase will generate additional revenue and will help offset the amount of reserves needed to fund the budget. Therefore, the Committee recommended increasing the assessment rate.

The Committee reviewed and unanimously recommended 2012-13 expenditures of $223,500. Prior to arriving at this budget, the Committee considered information from the Committee's Executive Subcommittee. Alternative expenditure levels were discussed by this group. The assessment rate of $0.008 per ⅘ bushel carton of citrus was then determined by reviewing anticipated expenses, total expected shipments of citrus, interest income, and the available reserves. Based on estimated shipments of 27.3 million cartons, the increased assessment rate should provide $218,400 in assessment income. This is approximately $5,100 less than anticipated expenses, which the Committee determined to be acceptable.

A review of historical information and preliminary information pertaining to the upcoming crop year indicates that the grower price for the 2012-13 season could range between $3.83 and $10.13 per ⅘ bushel carton of citrus. Therefore, the estimated assessment revenue for the 2012-13 crop year as a percentage of total grower revenue could range between .08 and .2 percent.

This action increases the assessment obligation imposed on handlers. While assessments impose some additional costs on handlers, the costs are minimal and uniform on all handlers. Some of the additional costs may be passed on to producers. However, these costs are offset by the benefits derived by the operation of the marketing order.

In addition, the Committee's meeting was widely publicized throughout the Florida citrus industry and all interested persons were invited to attend the meeting and participate in Committee deliberations on all issues. Like all Committee meetings, the July 17, 2012, meeting was a public meeting and all entities, both large and small, were able to express views on this issue.

In accordance with the Paperwork Reduction Act of 1995, (44 U.S.C. chapter 35), the order's information collection requirements have been previously approved by the Office of Management and Budget (OMB) and assigned OMB No. 0581-0189, Generic Fruit Crops. No changes in those requirements as a result of this action are necessary. Should any changes become necessary, they would be submitted to OMB for approval.

This rule imposes no additional reporting or recordkeeping requirements on either small or large Florida citrus handlers. As with all Federal marketing order programs, reports and forms are periodically reviewed to reduce information requirements and duplication by industry and public sector agencies. As noted in the initial regulatory flexibility analysis, USDA has not identified any relevant Federal rules that duplicate, overlap, or conflict with this final rule.

AMS is committed to complying with the E-Government Act, to promote the use of the Internet and other information technologies to provide increased opportunities for citizen access to Government information and services, and for other purposes.

A proposed rule concerning this action was published in the Federal Register on January 15, 2013 (78 FR 2908). Copies of the proposed rule were also mailed or sent via facsimile to all Florida citrus handlers. Finally, the proposal was made available through the Internet by USDA and the Office of the Federal Register. A 10-day comment period ending January 25, 2013, was provided for interested persons to respond to the proposal. No comments were received.

A small business guide on complying with fruit, vegetable, and specialty crop marketing agreements and orders may be viewed at: www.ams.usda.gov/MarketingOrdersSmallBusinessGuide. Any questions about the compliance guide should be sent to Jeffrey Smutny at the previously-mentioned address in the FOR FURTHER INFORMATION CONTACT section.

After consideration of all relevant material presented, including the information and recommendation submitted by the Committee and other available information, it is hereby found that this rule, as hereinafter set forth, will tend to effectuate the declared policy of the Act.

Pursuant to 5 U.S.C. 553, it is also found and determined that good cause exists for not postponing the effective date of this rule until 30 days after publication in the Federal Register because the crop year began August 1, handlers are already receiving 2012-13 citrus from growers, and the order requires that the rate of assessment apply to all assessable citrus handled during such period. In addition, the Committee needs to have sufficient funds to pay its expenses, which are incurred on a continuous basis. Further, handlers are aware of this rule, which was recommended at a public meeting. Also, a 10-day comment period was provided for in the proposed rule, and no comments were received.

List of Subjects in 7 CFR Part 905

Grapefruit, Oranges, Reporting and recordkeeping requirements, Tangelos, Tangerines.

For the reasons set forth in the preamble, 7 CFR part 905 is amended as follows:

PART 905—ORANGES, GRAPEFRUIT, TANGERINES, AND TANGELOS GROWN IN FLORIDA

1. The authority citation for 7 CFR part 905 continues to read as follows:

Authority: 7 U.S.C. 601-674.

2. Section 905.235 is revised to read as follows:

§ 905.235 Assessment rate.

On and after August 1, 2012, an assessment rate of $0.008 per ⅘ bushel carton or equivalent is established for Florida citrus covered under the order.

Dated: April 22, 2013.
David R. Shipman,
Administrator, Agricultural Marketing Service.

[FR Doc. 2013-09814 Filed 4-24-13; 8:45 am]

BILLING CODE 3410-02-P